DEPARTMENT OF COMMERCE

National Oceanic and Atmospheric Administration

Agency Information Collection Activities; Submission to the Office of Management and Budget (OMB) for Review and Approval; Comment Request; Annual Economic Survey of Federal Gulf and South Atlantic Shrimp Permit Holders

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before May 19, 2025.

ADDRESSES: Interested persons are invited to submit written comments to Adrienne Thomas, NOAA PRA Officer, at NOAA.PRA@noaa.gov. Please reference OMB Control Number 0648-0591 in the subject line of your comments. All comments received are part of the public record and will generally be posted on https://www.regulations.gov without change. Do not submit Confidential Business Information or otherwise sensitive or protected information.

FOR FURTHER INFORMATION CONTACT: Requests for additional information or specific questions related to collection activities should be directed to Felix Martin, Fishery Management Specialist, SEFSC, NMFS, 75 Virginia Beach Drive, Miami FL 33149, (305) 361-4263, felix.martin@noaa.gov.

SUPPLEMENTARY INFORMATION:

I. Abstract

This is a request for renewal of an approved information collection. NOAA Fisheries, Southeast Fisheries Science Center, annually collects economic data from commercial fishermen in the Gulf and South Atlantic shrimp fisheries who hold one or more permits for harvesting shrimp from federal waters (U.S. Exclusive Economic Zone). A collection of economic information from fishers affected by the management of federal commercial fisheries is needed to ensure that national goals, objectives, and requirements of the Magnuson-Stevens Fishery Conservation and Management Act (MFCMA) and other laws are met. These data are needed to conduct economic analyses in support of management of the shrimp fishery and to satisfy legal requirements. Information about revenues, variable and fixed costs, capital investment and other economic information is collected from a random sample of permit holders. The data will be used to assess how fishermen will be impacted by and respond to federal regulation likely to be considered by fishery managers. No changes are requested with this renewal request.

II. Method of Collection

The information will be collected on paper using a mail survey.

III. Data

OMB Control Number: 0648-0591.

Form Number(s): None.

Type of Review: Regular submission (extension of a current information collection).

Affected Public: Individuals or households; business or other for-profit organizations.

Estimated Number of Respondents: 650 permit holders.

Estimated Time Per Response: 45 minutes.

Estimated Total Annual Burden Hours: 488 hours.

Estimated Total Annual Cost to Public: $0 in record keeping/reporting costs.

Respondent's Obligation: Required to Obtain or Retain Benefits (permit renewal).

Legal Authority: Magnuson-Stevens Fishery Conservation and Management Act.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this information collection request. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Compliance Officer, Office of the Under Secretary for Economic Affairs, Commerce Department.

[FR Doc. 2025-04596 Filed 3-18-25; 8:45 am]

BILLING CODE 3510-22-P